DEPARTMENT OF THE INTERIOR

Bureau of Indian Affairs

Indian Gaming

AGENCY: Bureau of Indian Affairs, Interior.

ACTION: Notice of Approved Tribal-State Class III Gaming Compact.

SUMMARY: This notice publishes an approval of the Tribal-State Gaming Compact for regulation of Class III gaming between the Cow Creek Band of Umpqua Tribe of Indians and the State of Oregon.

DATES: Effective Date: March 19, 2007.

FOR FURTHER INFORMATION CONTACT: George T. Skibine, Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710, the Secretary of the Interior shall publish in the Federal Register notice of approved Tribal-State compacts for the purpose of engaging in Class III gaming activities on Indian lands. This compact establishes regulatory, oversight and monitoring roles between the parties. The division of regulatory, oversight and monitoring roles in this compact reserves for the tribe the primary responsibility for regulating Class III gaming on tribal land; however, this compact provides the State of Oregon, acting through the Oregon State Police, with important monitoring and oversight responsibilities to assure the fairness, integrity, security and honesty of the Class III gaming.

Dated: March 7, 2007.
Michael D. Olsen,
Principal Deputy Assistant Secretary—Indian Affairs.

[FR Doc. E7-4903 Filed 3-16-07; 8:45 am]

BILLING CODE 4310-4N-P